DEPARTMENT OF COMMERCE

International Trade Administration

Initiation of Antidumping and Countervailing Duty Administrative Reviews

AGENCY: Enforcement and Compliance, International Trade Administration, Department of Commerce.

SUMMARY: The Department of Commerce (“the Department”) has received requests to conduct administrative reviews of various antidumping and countervailing duty orders and findings with February anniversary dates. In accordance with the Department's regulations, we are initiating those administrative reviews.

DATES: Effective Dates: April 3, 2015.

FOR FURTHER INFORMATION CONTACT: Brenda E. Waters, Office of AD/CVD Operations, Customs Liaison Unit, Enforcement and Compliance, International Trade Administration, U.S. Department of Commerce, 14th Street and Constitution Avenue NW., Washington, DC 20230, telephone: (202) 482-4735.

SUPPLEMENTARY INFORMATION:

Background

The Department has received timely requests, in accordance with 19 CFR 351.213(b), for administrative reviews of various antidumping and countervailing duty orders and findings with February anniversary dates. With respect to the antidumping duty orders of Certain Frozen Warmwater Shrimp from India and Thailand, the initiation of the antidumping duty administrative review for these cases will be published in a separate initiation notice.

All deadlines for the submission of various types of information, certifications, or comments or actions by the Department discussed below refer to the number of calendar days from the applicable starting time.

Notice of No Sales

If a producer or exporter named in this notice of initiation had no exports, sales, or entries during the period of review (“POR”), it must notify the Department within 30 days of publication of this notice in the Federal Register. All submissions must be filed electronically at http://access.trade.gov in accordance with 19 CFR 351.303.¹ Such submissions are subject to verification in accordance with section 782(i) of the Tariff Act of 1930, as amended (“the Act”). Further, in accordance with 19 CFR 351.303(f)(1)(i), a copy must be served on every party on the Department's service list.

¹ See Antidumping and Countervailing Duty Proceedings: Electronic Filing Procedures; Administrative Protective Order Procedures, 76 FR 39263 (July 6, 2011).

Respondent Selection

In the event the Department limits the number of respondents for individual examination for administrative reviews, the Department intends to select respondents based on U.S. Customs and Border Protection (“CBP”) data for U.S. imports during the POR. We intend to release the CBP data under Administrative Protective Order (“APO”) to all parties having an APO within seven days of publication of this initiation notice and to make our decision regarding respondent selection within 21 days of publication of this Federal Register notice. The Department invites comments regarding the CBP data and respondent selection within five days of placement of the CBP data on the record of the applicable review. Rebuttal comments will be due five days after submission of initial comments.

In the event the Department decides it is necessary to limit individual examination of respondents and conduct respondent selection under section 777A(c)(2) of the Act:

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, new shipper review or changed circumstances review). For any company subject to this review, if the Department determined, or continued to treat, that company as collapsed with others, the Department will assume that such companies continue to operate in the same manner and will collapse them for respondent selection purposes. Otherwise, the Department will not collapse companies for purposes of respondent selection. Parties are requested to (a) identify which companies subject to review previously were collapsed, and (b) provide a citation to the proceeding in which they were collapsed. Further, if companies are requested to complete the Quantity and Value (“Q&V”) Questionnaire for purposes of respondent selection, in general each company must report volume and value data separately for itself. Parties should not include data for any other party, even if they believe they should be treated as a single entity with that other party. If a company was collapsed with another company or companies in the most recently completed segment of this proceeding where the Department considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that the Department does not intend to extend the 90-day deadline unless the requestor demonstrates that an extraordinary circumstance has prevented it from submitting a timely withdrawal request. Determinations by the Department to extend the 90-day deadline will be made on a case-by-case basis.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2, 1994). In accordance with the separate rates criteria, the Department assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, the Department requires entities for whom a review was requested, that were assigned a separate rate in the most recent segment of this proceeding in which they participated, to certify that they continue to meet the criteria for obtaining a separate rate. The Separate Rate Certification form will be available on the Department's Web site at http://enforcement.trade.gov/nme/nme-sep-rate.html on the date of publication of this Federal Register notice. In responding to the certification, please follow the “Instructions for Filing the Certification” in the Separate Rate Certification. Separate Rate Certifications are due to the Department no later than 30 calendar days after publication of this Federal Register notice. The deadline and requirement for submitting a Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name ³, should timely file a Separate Rate Application to demonstrate eligibility for a separate rate in this proceeding. The Separate Rate Status Application will be available on the Department's Web site at http://enforcement.trade.gov/nme/nme-sep-rate.html on the date of publication of this Federal Register notice. In responding to the Separate Rate Status Application, refer to the instructions contained in the application. Separate Rate Status Applications are due to the Department no later than 30 calendar days of publication of this Federal Register notice. The deadline and requirement for submitting a Separate Rate Status Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews

In accordance with 19 CFR 351.221(c)(1)(i), we are initiating administrative reviews of the following antidumping and countervailing duty orders and findings. We intend to issue the final results of these reviews not later than February 29, 2016.

| Period to be reviewed
Antidumping Duty Proceedings
Brazil:
Stainless Steel Bar, A-351-825 | 2/1/14-1/31/15
Villares Metals S.A
India:
Certain Preserved Mushrooms, A-533-813 | 2/1/14-1/31/15
Agro Dutch Foods Limited (Agro Dutch Industries Limited)
Himalya International Ltd.
Hindustan Lever Ltd. (formerly Ponds India, Ltd.)
Transchem, Ltd.
Weikfield Foods Pvt. Ltd.
India:
Stainless Steel Bar, A-533-810 | 2/1/14-1/31/15
Ambica Steels Limited
Bhansali Bright Bars Pvt. Ltd.
Bhansali Bright Bars Private Limited
Italy:
Stainless Steel Butt-Weld Pipe Fittings, A-475-828 | 2/1/14-1/31/15
Filmag Italia Spa
Mexico:
Large Residential Washers, A-201-842 | 2/1/14-1/31/15
Electrolux Home Products Corp. NV
Electrolux Home Products de Mexico, S.A. de C.V.
Samsung Electronics Mexico S.A. de C.V.
Republic of Korea:
Certain Cut-to-Length Carbon-Quality Steel Plate, A-580-836 | 2/1/14-1/31/15
BDP International
Daewoo International Corp.
Dongkuk Steel Mill Co., Ltd.
GS Global Corp.
Hyundai Glovis
Hyundai Steel Co.
Iljin Steel
Samsung C&T Corporation
Samsung C&T Engineering & Construction Group
Samsung C&T Trading and Investment Group
Samsung Heavy Industries
Steel N People Ltd.
Republic of Korea:
Large Residential Washers, A-580-868 | 2/1/14-1/31/15
Daewoo Electronics Corporation
LG Electronics, Inc.
Samsung Electronics Co., Ltd.
Socialist Republic of Vietnam:
Frozen Warmwater Shrimp, A-552-802 | 2/1/14-1/31/15
Amanda Foods (Vietnam) Ltd. Ngoc Tri Seafood Company (Amanda's affiliate)
Amanda Seafood Co., Ltd.
An Giang Coffee JSC
Anvifish Joint Stock Co.
Asia Food Stuffs Import Export Co., Ltd.
Bac Lieu Fisheries Joint Stock Company (“Bac Lieu”)
Bac Lieu Fisheries Joint Stock Company
Bentre Aquaproduct Import & Export Joint Stock Company
Ben Tre Forestry and Aquaproduct Import Export Joint Stock Company (“Faquimex”)
Bien Dong Seafood Co., Ltd.
BIM Seafood Joint Stock Company
Binh An Seafood Joint Stock Company
B.O.P. Limited Co.
C.P. Vietnam Corporation
C.P. Vietnam Corporation (“C.P. Vietnam”)
C.P. Vietnam Livestock Company Limited
C.P. Vietnam Livestock Corporation
Cai Doi Vam Seafood Import-Export Co. (“CADOVIMEX”) and/or CADOVIMEX Seafood Import-Export and Processing Joint Stock Company
Cadovimex Seafood Import-Export and Processing Joint-Stock Company (“Cadovimex”)
Cadovimex Seafood Import-Export and Processing Joint Stock Company (“CADOVIMEX-VIETNAM”)
Cai Doi Vam Seafood Import-Export Company
Caidoivam Seafood Company (Cadovimex)
Cafatex
Cafatex Corporation
Cafatex Fishery Joint Stock Corporation
Cafatex Vietnam
Cafatex Fishery Joint Stock Corporation (“Cafatex Corp.”)
Ca Mau Seafood Joint Stock Company (“Seaprimexco Vietnam”)
Ca Mau Seafood Joint Stock Company (“Seaprimexco”)
Ca Mau Seafood Joint Stock Company (“SEAPRIMEXCO”)
Cam Ranh Seafoods
Cam Ranh Seafoods Processing Enterprise Company
Cam Ranh Seafoods Processing Enterprise Processing Pte.
Ca Mau Frozen Seafood Processing Import Export Corporation (“CAMIMEX”)
Camau Frozen Seafood Processing Import Export Corporation (“Camimex”)
Camau Frozen Seafood Processing Import Export Corp. (CAMIMEX-FAC 25)
Camau Frozen Seafood Processing Import Export Corporation (“Camimex”)
Camau Frozen Seafood Processing Import-Export Corporation (“CAMIMEX”)
Camau Seafood Processing and Service Joint-Stock Company (“CASES”)
Camau Seafood Processing and Service Jointstock Corporation (“CASES”)
Camau Seafood and Service Joint Stock Company (“CASES”)
Camau Seafood Factory No. 4
Camau Seafood Factory No. 5
Can Tho Import Export Fishery Limited Company (“CAFISH”)
Can Tho Agricultural and Animal Product Import Export Company (“CATACO”)
Can Tho Agricultural and Animal Products Import Export Company (“CATACO”)
Can Tho Agricultural and Animal Products Imex Company
Can Tho Agricultural Products
Can Tho Import Export Seafood Joint Stock Company (CASEAMEX)
Cau Tre Enterprise (C.T.E.)
Cautre Export Goods Processing Joint Stock Company
CL Fish Co., Ltd. (Cuu Long Fish Company)
Coastal Fisheries Development Corporation (“COFIDEC”) Cong Ty Tnhh Thong Thuan (Thong Thuan)
Cuu Long Seaproducts Company (“Cuu Long Seapro”)
Cuulong Seaproducts Company (“Cuu Long Seapro”)
Cuulong Seaproducts Company (“Cuulong Seapro”)
D & N Foods Processing (Danang Company Ltd.)
Danang Seaproducts Import Export Corporation (“Seaprodex Danang”)
Danang Seaproducts Import-Export Corporation (“Seaprodex Danang”) (and its affiliates)
Danang Seaproducts Import-Export Corporation (and its affiliate, Tho Quang Seafood
Processing and Export Company) (collectively, “Seaprodex Danang”)
Duy Dai Corporation
Fimex VN
Fine Foods Company (FFC) (Ca Mau Foods & Fishery Export Joint Stock Company)
Frozen Seafoods Factory No. 32
Frozen Seafoods Factory No. 32 (Tho Quang Seafood Processing and Export Company)
Gallant Dachan Seafood Co., Ltd.
Gallant Ocean (Vietnam) Co., Ltd.
Gallant Ocean (Quang Ngai) Co., Ltd.
Gn Foods
Green Farms Seafood Joint Stock Company
Hai Thanh Food Company Ltd.
Hai Viet Corporation (“HAVICO”)
Hai Viet Corporation (HAVICO)
Hai Vuong Co., Ltd.
Han An Trading Service Co., Ltd.
Hoang Hai Company Ltd.
Hoang Phuong Seafood Factory
Hua Heong Food Industries Vietnam Co. Ltd.
Huynh Huong Seafood Processing (Huynh Houng Trading and Import Export Joint Stock Company)
Incomfish
Incomfish Corp.
Interfood Shareholding Co.
Investment Commerce Fisheries
Investment Commerce Fisheries Corporation (“Incomfish”)
Investment Commerce Fisheries Corporation (INCOMFISH)
Khanh Loi Seafood Factory
Kien Long Seafoods Co. Ltd.
Kim Anh Company Limited
Kim Anh Company Limited (“Kim Anh”)
Long Toan Frozen Aquatic Products Joint Stock Company
Luan Vo Fishery Co., Ltd.
Minh Chau Imp. Exp. Seafood Processing Co., Ltd.
Minh Cuong Seafood Import Export Frozen Processing Joint Stock Company (“Minh Cuong Seafood”)
Minh Hai Export Frozen Seafood Processing Joint-Stock Company (“Minh Hai Jostoco”)
Minh Hai Joint-Stock Seafoods Processing Company (“Seaprodex Minh Hai”)
Minh Hai Joint-Stock Seafoods Processing Company (Seaprodex Minh Hai) (Sea Minh Hai)
Minh Hai Sea Products Import Export Company (“Seaprimex Co”)
Minh Phat Seafood
Minh Phat Seafood Co., Ltd.
Minh Phu Seafood Corp.
Minh Phu Seafood Pte
Minh Phu Seafood Corporation (and its affiliates Minh Qui Seafood Co. Ltd., Minh Phat Seafood Co. Ltd., Minh Phu Hau Giang, collectively “Minh Phu Group”)
Minh Phu Hau Giang Seafood Corp.
Minh Qui Seafood
Minh Qui Seafood Co., Ltd.
Mp Consol Co., Ltd.
My Son Seafoods Factory
Nam Hai Foodstuff and Export Company Ltd
Ngo Bros Seaproducts Import-Export One Member Company Limited
Ngo Bros Seaproducts Import-Export One Member Company Limited (Ngo Bros. Co., Ltd.)
Ngoc Chau Co., Ltd. and/or Ngoc Chau Seafood Processing Company
Ngoc Sinh
Ngoc Sinh Fisheries
Ngoc Sinh Private Enterprises
Ngoc Sinh Seafood Processing Company
Ngoc Sinh Seafood Trading & Processing Enterprise
Ngoc Sinh Seafoods
Ngoc Tri Seafood Joint Stock Company
Nha Trang Fisheries Joint Stock Company (“Nha Trang Fisco”)
Nha Trang Seaproduct Company (“Nha Trang Seafoods”)
Nha Trang Seaproduct Company (and its affiliates NT Seafoods Corporation, Nha Trang Seafoods—F.89 Joint Stock Company, NTSF Seafoods Joint Stock Company (collectively “Nha Trang Seafoods Group”)
NTSF Seafoods Joint Stock Company (“NTSF Seafoods”) (Nha Trang Seafoods F89 Joint Stock Company) (Nha Trang Seaproduct Company) (NT Seafoods Corporation)
Nhat Duc Co., Ltd. (“Nhat Duc”)
Nhat Duc Co., Ltd.
Nhat Duc Co. Ltd.
Phu Cuong Jostoco Corp.
Phu Cuong Jostoco Seafood Corporation
Phuong Nam Co., Ltd. (“Phuong Nam”)
Phuong Nam Co., Ltd. (Phuong Nam Foodstuff Corp.)
Phuong Nam Foodstuff Corp. (“Phuong Nam”)
Phuong Nam Foodstuff Corp.
Quang Minh Seafood Co LTD (“Quang Minh”)
Quang Minh Seafood Co., Ltd.
Quang Ninh Export Aquatic Products Processing Factory
Quang Ninh Seaproducts Factory
Quoc Ai Seafood Processing Import Export Co., Ltd.
Quoc Viet Seaproducts Processing Trading and Import—Export Co., Ltd.
S.R.V. Freight Services Co., Ltd.
Sao Ta Foods Joint Stock Company (“FIMEX VN”) (and its factory “Sao Ta Seafoods Factory”)
Sao Ta Foods Joint Stock Company (“Fimex VN”)
Sao Ta Foods Joint Stock Company (Sao Ta Seafood Factory) (FIMEX VN)
Sao Ta Seafood Factory
Sea Minh Hai
Seafoods and Foodstuff Factory
Seaprimexco
Seaprimexco Vietnam
Seaprodex Danang
Seaprodex Minh Hai
Seaprodex Minh Hai (Minh Hai Joint Stock Seafoods Processing Co.)
Seavina Joint Stock Company
Soc Trang Aquatic Products and General Import Export Company (“Stapimex”)
Soc Trang Seafood Joint Stock Company (“Stapimex”)
Soc Trang Seafood Joint Stock Company (“STAPIMEX”)
Sustainable Seafood
Tacvan Frozen Seafood Processing Export Company
Tacvan Frozen Seafood Processing Export Company (“Tac Van Seafoods Co”)
Tai Kim Anh Seafood Joint Stock Corporation
Tan Phong Phu Seafood Co., Ltd.
Tan Thanh Loi Frozen Food Co., Ltd.
Taydo Seafood Enterprise
Thanh Doan Seaproducts Import & Export Processing Joint-Stock Company (THADIMEXCO)
Thanh Hung Frozen Seafood Processing Import Export Co., Ltd.
Thanh Tri Seafood Processing Co. Ltd.
Thinh Hung Co., Ltd.Tho Quang Co.
Tho Quang Seafood Processing and Export Company
Thong Thuan Company
Thong Thuan Company Limited
Thong Thuan Seafood Company Limited
Thong Thuan—Cam Ranh Seafood Joint Stock Company
Thuan Phuoc Seafoods and Trading Corporation (“Thuan Phuoc Corp”)
Thuan Phuoc Seafoods and Trading Corporation and its separate factories Frozen Seafoods Factory No. 32, Seafoods and Foodstuff Factory, and My Son Seafoods Factory (collectively, “Thuan Phuoc Corp.”)
Thuan Phuoc Seafoods and Trading Corporation
Tien Tien Garment Joint Stock Company
Tithi Co., Ltd.
Trang Khan Seafood Co., Ltd.
Trong Nhan Seafood Company Limited
UTXI Aquatic Products Processing Corporation (“UTXICO”) (and its branch Hoang Phuong Seafood Factory)
UTXI Aquatic Products Processing Company
Viet Cuong Seafood Processing Import Export Joint-Stock Company
Viet Foods Co., Ltd. (“Viet Foods”)
Viet Foods Co., Ltd.
Viet Hai Seafood Co., Ltd.
Viet I-Mei Frozen Foods Co., Ltd.
Vietnam Clean Seafood Corporation (“Vina Cleanfood”)
Vietnam Clean Seafood Corporation
Vietnam Clean Seafood Corporation (VINA Cleanfood)
Vietnam Fish One Co., Ltd.
Vietnam Fish-One Co., Ltd. (“Fish One”) (Viet Hai Seafood Co., Ltd.)
Vietnam Northern Viking Technologies Co. Ltd.
Vinatex Danang
Vinh Hoan Corp.
Vinh Loi Import Export Company (“VIMEX”)
Vinh Loi Import Export Company (“Vimexco”)
Xi Nghiep Che Bien Thuy Suc San Xuat Kau Cantho
Socialist Republic of Vietnam:
Steel Wire Garment Hangers, A-552-812 | 2/1/14-1/31/15
Acton Co, Ltd.
Angang Clothes Rack Manufacture Co.
Asmara Home Vietnam
B2B Co., Ltd.
Capco Wai Shing Viet Nam Co. Ltd.
CTN Limited Company (a/k/a C.T.N. International Ltd. and CTN Co. Ltd)
Cty Tnhn Mtv Xnk My Phuoc (a/k/a Cty Thnh San Xuat My Phuoc Long An Factory)
Dai Nam Investment JSC (part of Dai Nam Group)
Diep Son Hangers One Member Co. Ltd. (a/k/a Diep Son Hangers Co. Ltd.)
Dong Nam A Co. Ltd. (a/k/a Dong Nam A Hamico)
Dong Nam A Trading Co.
Est Glory Industrial Ltd.
Focus Shipping Corp.
Godoxa Viet Nam Ltd. (a/k/a Godoxa Vietnam Co. Ltd.)
HCMC General Import and Export Investment Joint Stock Company (Imexco)
Hongxiang Business and Product Co., Ltd.
Huqhu Co., Ltd.
Infinite Industrial Hanger Limited (a/k/a Infinite Industrial Hanger Co. Ltd.)
Ju Fu Co. Ltd. (a/k/a Jufu Company, Ltd.)
Linh Sa Hamico Company, Ltd.
Long Phung Co. Ltd.
Lucky Cloud (Vietnam) Hanger Co. Ltd.
Minh Quang Steel Joint Stock Company (a/k/a Minh Quang Hanger) (Part of the Dai Nam Group)
Moc Viet Manufacture Co., Ltd.
Nam A Hamico Export Joint Stock Co. (a/k/a Dong Nam Hamico Joint Stock Company)
N-Tech Vina Co. Ltd.
NV Hanger Co., Ltd. (a/k/a Nguyen Haong Vu Co. Ltd.)
Quoc Ha Production Trading Services Co. Ltd.
Quyky Group/Quyky Co., Ltd./Quyky-Yangle International Co., Ltd.
S.I.I.C.
South East Asia Hamico Exports JSC
T.J. CO. Ltd.
Tan Dinh Enterprise (a/k/a Tan Dihn Enterprise)
Tan Minh Textile Sewing Trading Co., Ltd.
Thanh Hieu Manufacturing Trading Co. Ltd.
The Xuong Co. Ltd.
Thien Ngon Printing Co, Ltd.
Top Sharp International Trading Limited
Triloan Hangers, Inc.
Tri-State Trading (a/k/a Nghia Phuong Nam Production Trading)
Trung Viet My Joint Stock Company
Truong Hong Lao—Viet Joint Stock
Uac Co. Ltd.
Viet Anh Imp-Exp Joint Stock Co.
Viet Hanger Investment, LLC (a/k/a Viet Hanger)
Vietnam Hangers Joint Stock Company (a/k/a Cong Ty Co Phan Moc AO)
Vietnam Sourcing (a/k/a VNS and VN Sourcing)
Winwell Industrial Ltd. (Hong Kong)
Yen Trang Co., Ltd.
Zownzi Hardware Hanger Factory Ltd.
Socialist Republic of Vietnam:
Utility Scale Wind Towers, A-552-814 | 2/1/14-1/31/15
CS Wind Corporation
Vina Halla Heavy Industries Ltd.
UBI Tower Sole Member Company Ltd.
The People's Republic of China:
Certain Cased Pencils,⁴ A-570-827 | 12/1/13-11/30/14
Orient International Holding Shanghai Foreign Trade Co., Ltd. (SFTC)
The People's Republic of China:
Certain Preserved Mushrooms, A-570-851 | 2/1/14-1/31/15
Agrogentra & Co., Ltd.
Ayecue (Liaocheng) Foodstuff Co., Ltd.
Blue Field (Sichuan) Food Industrial Co., Ltd.
Casia Global Logistics Co., Ltd.
Changzhou Chen Rong-Da Carpet Co., Ltd.
China National Cereals, Oils & Foodstuffs Import & Export Corp.
China Processed Food Import & Export Co.
Dezhou Kaihang Agricultural Science Technology Co., Ltd.
DHL ISC (Hong Kong) Limited
Dujiangyan Xingda Foodstuff Co., Ltd.
Fujian Blue Lake Foods Co., Ltd.
Fujian Golden Banyan Foodstuffs Industrial Co., Ltd.
Fujian Haishan Foods Co., Ltd.
Fujian Pinghe Baofeng Canned Foods
Fujian Tongfa Foods Group Co., Ltd.
Fujian Yuxing Fruits and Vegetables Foodstuffs Development Co., Ltd.
Fujian Zishan Group Co., Ltd.
Guangxi Eastwing Trading Co., Ltd.
Guangxi Hengyang Industrial & Commercial Dev., Ltd.
Guangxi Hengyong Industrial & Commerical Dev. Ltd.
Guangxi Jisheng Foods, Inc.
Inter-Foods (Dongshan) Co., Ltd.
Jiangxi Cereals Oils Foodstuffs
Joy Foods (Zhangzhou) Co., Ltd.
Linyi City Kangfa Foodstuff Drinkable Co., Ltd.
Longhai Guangfa Food Co., Ltd.
Mikado Food China Co., Ltd.
Primera Harvest (Xiangfan) Co., Ltd.
Shandong Fengyu Edible Fungus Corporation Ltd.
Shandong Jiufa Edible Fungus Corporation, Ltd.
Shandong Xinfa Agricultural Science Corporation Ltd.
Shandong Yinfeng Rare Fungus Corporation, Ltd.
Shenzhen Syntrans International Logistics Co. Ltd.
Sun Wave Trading Co., Ltd.
Sunrise Food Industry & Commerce
Shouguang Sunrise Industry & Commerce Co., Ltd.
Thuy Duong Transport And Trading Service JSC
Tianjin Fulida Supply Co., Ltd.
Xiamen Aukking Imp. & Emp. Co., Ltd.
Xiamen Carre Food Co., Ltd.
Xiamen Choice Harvest Imp.
Xiamen Greenland Import & Export Co., Ltd.
Xiamen Gulong Import & Export Co., Ltd.
Xiamen Huamin Imp. & Exp. Co., Ltd.
Xiamen Hua Min Import & Export Co., Ltd.
Xiamen International Trade & Industrial Co., Ltd.
Xiamen Jiahua Import & Export Trading Co., Ltd.
Xiamen Longhuai Import & Export Co., Ltd.
Xiamen Longhuai Imp. & Exp. Co. Ltd.
Xiamen Longstar Lighting Co., Ltd.
Xiamen Sungiven Import & Export Co., Ltd.
Zhangzhou Gangchang Canned Foods Co., Ltd. (a/k/a Zhangzhou Gangchang Canned Foods Co., Ltd., Fujian)
Zhangzhou Golden Banyan Foodstuffs Industrial Co., Ltd.
Zhangzhou Hongda Import & Export Trading Co., Ltd.
Zhangzhou Long Mountain Foods Co., Ltd.
Zhangzhou Longhai Minhui Industry & Trade Co. Ltd.
Zhangzhou Tan Co., Ltd.
Zhangzhou Tan Co. Ltd., Fujian, China
Zhangzhou Tongfa Foods Industry Co., Ltd.
Zhangzhou Yuxing Imp. & Exp. Trading Co., Ltd.
Zhangzhou Yuxing Import & Export Trading Co. Ltd.
Zhejiang Iceman Food Co., Ltd.
Zhejiang Iceman Group Co., Ltd.
The People's Republic of China:
Frozen Warmwater Shrimp, A-570-893 | 2/1/14-1/31/15
Allied Pacific Food (Dalian) Co., Ltd.
Asian Seafoods (Zhanjiang) Co., Ltd.
Beihai Angbang Seafood Co., Ltd.
Beihai Boston Frozen Food Co., Ltd.
Beihai Tianwei Aquatic Food Co. Ltd.
Dalian Haiqing Food Co., Ltd.
Dalian Shanhai Seafood Co., Ltd.
Dalian Taiyang Aquatic Products Co., Ltd.
Fujian Chaohui Group
Fujian Chaohui Aquatic Food Co., Ltd.
Fujian Chaohui International Trading
Fujian Dongshan County Shunfa Aquatic Product Co., Ltd.
Fujian Dongya Aquatic Products Co., Ltd.
Fujian Haohui Import & Export Co., Ltd.
Fujian Rongjiang Import and Export Co., Ltd.
Fujian Tea Import & Export Co., Ltd.
Fujian Zhaoan Haili Aquatic Co., Ltd.
Fuqing Dongwei Aquatic Products Ind.
Fuqing Minhua Trade Co., Ltd.
Fuqing Yihua Aquatic Food Co., Ltd.
Guangdong Foodstuffs Import & Export (Group) Corporation
Guangdong Gourmet Aquatic Products Co., Ltd.
Guangdong Jinhang Food Co., Ltd.
Guangdong Wanshida Holding Corp.
Guangdong Wanya Foods Fty. Co., Ltd.
HaiLi Aquatic Product Co., Ltd. Zhaoan Fujian
Hainan Brich Aquatic Products Co., Ltd.
Hainan Golden Spring Foods Co., Ltd.
Huazhou Xinhai Aquatic Products Co. Ltd.
Longhai Gelin Foods Co., Ltd.
Maoming Xinzhou Seafood Co., Ltd.
New Continent Foods Co., Ltd.
Maoming Xinzhou Seafood Co., Ltd.
North Seafood Group Co.
Red Garden Food Processing Co., Ltd.
Rizhao Smart Foods Company Limited
Rongcheng Yinhai Aquatic Product Co., Ltd.
Savvy Seafood Inc.
Shantou Freezing Aquatic Product Foodstuffs Co.
Shantou Jiazhou Food Industrial Co., Ltd.
Shantou Jintai Aquatic Product Industrial Co., Ltd.
Shantou Longsheng Aquatic Product Foodstuff Co., Ltd.
Shantou Red Garden Food Processing Co., Ltd.
Shantou Red Garden Foodstuff Co., Ltd.
Shantou Yelin Frozen Seafood Co., Ltd.
Shantou Yuexing Enterprise Co.
Thai Royal Frozen Food Zhanjiang Co., Ltd.
Xiamen Granda Import and Export Co. Ltd.
Yelin Enterprise Co. Hong Kong
Zhangzhou Donghao Seafoods Co., Ltd.
Zhangzhou Xinwanya Aquatic Product Co., Ltd.
Zhangzhou Yanfeng Aquatic Product & Foodstuff Co., Ltd.
Zhanjiang Evergreen Aquatic Product Science and Technology Co., Ltd.
Zhanjiang Guolian Aquatic Products Co., Ltd.
Zhanjiang Jinguo Marine Foods Co., Ltd.
Zhanjiang Longwei Aquatic Products Industry Co., Ltd.
Zhanjiang Regal Integrated Marine Resources Co., Ltd.
Zhanjiang Newpro Foods Co., Ltd.
Zhanjiang Universal Seafood Corp.
Zhaoan Yangli Aquatic Co., Ltd.
Zhejiang Xinwang Foodstuffs Co., Ltd.
Zhoushan Genho Food Co., Ltd.
The People's Republic of China:
Small Diameter Graphite Electrodes, A-570-929 | 2/1/14-1/31/15
5-Continent Imp. & Exp. Co., Ltd.
Acclcarbon Co., Ltd.
Allied Carbon (China) Co., Limited
Anssen Metallurgy Group Co., Ltd.
AMGL
Apex Maritime (Dalian) Co., Ltd.
Asahi Fine Carbon (Dalian) Co., Ltd.
Beijing Fangda Carbon Tech Co., Ltd.
Beijing International Trade Co., Ltd.
Beijing Kang Jie Kong Cargo Agent Expeditors (Tianjin Branch)
Beijing Xinchengze Inc.
Beijing Xincheng Sci-Tech. Development Inc.
Brilliant Charter Limited
Carbon International
Chang Cheng Chang Electrode Co., Ltd.
Chengde Longhe Carbon Factory
Chengdelh Carbonaceous Elements Factory
Chengdu Jia Tang Corp.
Chengdu Rongguang Carbon Co., Ltd.
China Carbon Graphtie Group Inc.
China Industrial Mineral & Metals Group
China Shaanxi Richbond Imp. & Exp. Industrial Corp. Ltd.
China Xingyong Carbon Co., Ltd.
CIMM Group Co., Ltd.
Dalian Carbon & Graphite Corporation
Dalian Hongrui Carbon Co., Ltd.
Dalian Honest International Trade Co., Ltd.
Dalian Horton International Trading Co., Ltd.
Dalian LST Metallurgy Co., Ltd.
Dalian Oracle Carbon Co., Ltd.
Dalian Shuangji Co., Ltd.
Dalian Thrive Metallurgy Imp. & Exp. Co., Ltd.
Datong Carbon
Datong Carbon Plant
Datong Xincheng Carbon Co., Ltd.
Datong Xincheng New Material Co., Ltd.
Dechang Shida Carbon Co., Ltd
De Well Container Shipping Corp.
Dewell Group
Dignity Success Investment Trading Co., Ltd.
Double Dragon Metals and Mineral Tools Co., Ltd.
Fangda Carbon New Material Co., Ltd.
Fangda Carbon New Material and Technology Co., Ltd.
Fangda Lanzhou Carbon Joint Stock Company Co. Ltd.
Foset Co., Ltd.
Fushun Carbon Co., Ltd.
Fushun Carbon Plant
Fushun Jinly Petrochemical Carbon Co., Ltd., a.k.a. Fushun Jinli Petrochemical Carbon Co., Ltd.
Fushun Oriental Carbon Co., Ltd.
GES (China) Co., Ltd.
Grameter Shipping Co., Ltd. (Qingdao Branch)
Guangdong Highsun Yongye (Group) Co., Ltd.
Guanghan Shida Carbon Co., Ltd.
Haimen Shuguang Carbon Industry Co., Ltd.
Handan Hanbo Material Co., Ltd.
Hanhong Precision Machinery Co., Ltd.
Hebei Long Great Wall Electrode Co., Ltd.
Hefei Carbon Co., Ltd.
Heico Universal (Shanghai) Distribution Co., Ltd.
Heilongjiang Xinyuan Carbon Co. Ltd.
Heilongjiang Xinyuan Carbon Products Co., Ltd.
Henan Sanli Carbon Products Co., Ltd.
Henan Sihai Import and Export Co., Ltd.
Hopes (Beijing) International Co., Ltd.
Huanan Carbon Factory
Hunan Mec Machinery and Electronics Imp. & Exp. Corp.
Hunan Yinguang Carbon Factory Co., Ltd.
Inner Mongolia QingShan Special Graphite and Carbon Co., Ltd.
Inner Mongolia Xinghe County Hongyuan Electrical Carbon Factory
Jiangsu Yafei Carbon Co., Ltd.
Jiaozuo Zhongzhou Carbon Products Co., Ltd.
Jichun International Trade Co., Ltd. of Jilin Province
Jiexiu Juyuan Carbon Co., Ltd.
Jiexiu Ju-Yuan & Coaly Co., Ltd.
Jilin Carbon Graphite Material Co., Ltd.
Jilin Carbon Import and Export Company
Jilin Songjiang Carbon Co Ltd.
Jinneng Group
Jinneng Group Co., Ltd.
Jinyu Thermo-Electric Material Co., Ltd.
JL Group
Kaifeng Carbon Company Ltd.
KASY Logistics (Tianjin) Co., Ltd.
Kimwan New Carbon Technology and Development Co., Ltd.
Kingstone Industrial Group Ltd.
L & T Group Co., Ltd.
Laishui Long Great Wall Electrode Co. Ltd.
Lanzhou Carbon Co., Ltd.
Lanzhou Carbon Import & Export Corp.
Lanzhou Hailong New Material Co.
Lanzhou Hailong Technology
Lanzhou Ruixin Industrial Material Co., Ltd.
Lianxing Carbon Qinghai Co., Ltd.
Lianxing Carbon Science Institute
Lianxing Carbon (Shandong) Co., Ltd.
Lianyungang Jinli Carbon Co., Ltd.
Lianyungang Jianglida Mineral Co., Ltd.
Liaoning Fangda Group Industrial Co., Ltd.
Liaoyang Carbon Co. Ltd.
Linghai Hongfeng Carbon Products Co., Ltd.
Linyi County Lubei Carbon Co., Ltd.
Maoming Yongye (Group) Co., Ltd.
MBI Beijing International Trade Co., Ltd.
Nantong Dongjin New Energy Co., Ltd.
Nantong Falter New Energy Co., Ltd.
Nantong River-East Carbon Co., Ltd.
Nantong River-East Carbon Joint Stock Co., Ltd.
Nantong Yangtze Carbon Corp. Ltd.
Nantong Yanzi Carbon Co. Ltd.
Oracle Carbon Co., Ltd.
Orient (Dalian) Carbon Resources Developing Co., Ltd.
Orient Star Transport International, Ltd.
Peixian Longxiang Foreign Trade Co. Ltd.
Pingdingshan Coal Group
Pudong Trans USA, Inc. (Dalian Office)
Qingdao Grand Graphite Products Co., Ltd.
Qingdao Haosheng Metals Imp. & Exp. Co., Ltd.
Quingdao Haosheng Metals & Minerals Imp. & Exp. Co., Ltd.
Qingdao Liyikun Carbon Development Co., Ltd.
Qingdao Likun Graphite Co., Ltd.
Qingdao Ruizhen Carbon Co., Ltd.
Qingdao Yijia E.T.I. I/E Co., Ltd.
Qingdao Youyuan Metallurgy Material Limited Company (China)
Ray Group Ltd.
Rex International Forwarding Co., Ltd.
Rt Carbon Co., Ltd.
Ruitong Carbon Co., Ltd.
Sea Trade International, Inc.
Seamaster Global Forwarding (China)
Shandong Basan Carbon Plant
Shandong Zibo Continent Carbon Factory
Shanghai Carbon International Trade Co., Ltd.
Shanghai GC Co., Ltd.
Shanghai Jinneng International Trade Co., Ltd.
Shanghai P.W. International Ltd.
Shanghai Shen-Tech Graphite Material Co., Ltd.
Shanghai Topstate International Trading Co., Ltd.
Shanxi Cimm Donghai Advanced Carbon Co., Ltd.
Shanxi Datong Energy Development Co., Ltd.
Shanxi Foset Carbon Co. Ltd.
Shanxi Jiexiu Import and Export Co., Ltd.
Shanxi Jinneng Group Co., Ltd.
Shanxi Yunheng Graphite Electrode Co., Ltd.
Shenyang Jinli Metals & Minerals Imp. & Exp. Co., Ltd.
Shida Carbon Group
Shijaizhuang Carbon Co., Ltd.
Shijiazhuang Huanan Carbon Factory
Sichuan 5-Continent Imp & Exp Co., Ltd.
Sichuan Dechang Shida Carbon Co., Ltd.
Sichuan GMT International Inc.
Sichuan Guanghan Shida Carbon Co., Ltd
Sichuan Shida Carbon Co., Ltd.
Sichuan Shida Trading Co., Ltd.
Sinicway International Logistics Ltd.
Sinosteel Anhui Co., Ltd.
Sinosteel Corp.
Sinosteel Jilin Carbon Co., Ltd.
Sinosteel Jilin Carbon Imp. & Exp. Co., Ltd.
Sinosteel Jilin Carbon Plant
Sinosteel Sichuan Co., Ltd.
SK Carbon
SMMC Group Co., Ltd.
Sure Mega (Hong Kong) Ltd.
Tangshan Kimwan Special Carbon & Graphite Co., Ltd.
Tengchong Carbon Co., Ltd.
T.H.I. Global Holdings Corp.
T.H.I. Group (Shanghai), Ltd.
Tianjin (Teda) Iron & Steel Trade Co., Ltd.
Tianjin Kimwan Carbon Technology and Development Co., Ltd.
Tianjin Yue Yang Industrial & Trading Co., Ltd.
Tianzhen Jintian Graphite Electrodes Co., Ltd.
Tielong (Chengdu) Carbon Co., Ltd.
UK Carbon & Graphite
United Carbon Ltd.
United Trade Resources, Inc.
Weifang Lianxing Carbon Co., Ltd.
World Trade Metals & Minerals Co., Ltd.
XC Carbon Group
Xinghe County Muzi Carbon Co., Ltd., a.k.a. Xinghe County Muzi Carbon Plant
Xinghe Xingyong Carbon Co., Ltd.
Xinghe Xinyuan Carbon Products Co., Ltd.
Xinyuan Carbon Co., Ltd.
Xuanhua Hongli Refractory and Mineral Company
Xuchang Minmetals & Industry Co., Ltd.
Xuzhou Carbon Co., Ltd.
Xuzhou Electrode Factory
Xuzhou Jianglong Carbon Manufacture Co., Ltd.
Xuzhou Jianglong Carbon Products Co., Ltd.
Yangzhou Qionghua Carbon Trading Ltd.
Yixing Huaxin Imp & Exp Co. Ltd.
Youth Industry Co., Ltd.
Zhengzhou Jinyu Thermo-Electric Material Co., Ltd.
Zibo Continent Carbon Factory
Zibo DuoCheng Trading Co., Ltd.
Zibo Lianxing Carbon Co., Ltd.
Zibo Wuzhou Tanshun Carbon Co., Ltd
The People's Republic of China:
Uncovered Innerspring Units, A-570-928 | 2/1/14-1/31/15
East Grace Corporation
Macao Commerical
Industrial Spring Mattress Manufacturer
The People's Republic of China:
Utility Scale Wind Towers, A-570-981 | 2/1/14-1/31/15
Alstom Sizhou Electric Power Equipment Co., Ltd.
AVIC International Renewable Energy Co., Ltd.
AUSKY (Shandong) Machinery Manufacturing Co., Ltd.
Baotou Titan Wind Power Equipment Co., Ltd.
CATIC International Trade & Economic Development Ltd.
Chengde Tianbao Machinery Co., Ltd.
Chengxi Shipyard Co., Ltd.
China WindPower Group
CleanTech Innovations Inc.
CNR Wind Turbine Co., Ltd.
CS Wind China Co., Ltd.
CS Wind Corporation
CS Wind Tech (Shanghai) Co., Ltd.
Dajin Heavy Industry Corporation
Greenergy Technology Co., Ltd.
Guangdong No.2 Hydropower Engineering Co., Ltd.
Guodian United Power Technology Baoding Co., Ltd.
Harbin Hongguang Boiler Group Co., Ltd.
Hebei Ningqiang Group
Hebei Qiangsheng Wind Equipment Co., Ltd.
Jiangsu Baolong Electromechanical Mfg. Co., Ltd.
Jiangsu Baolong Tower Tube Manufacture Co., Ltd.
Jiangsu Taihu Boiler Co., Ltd.
Jilin Miracle Equipment Manufacturing Engineering Co., Ltd.
Jilin Tianhe Wind Power Equipment Co., Ltd. (f/k/a Jilin Mingmen Wind Power Equipment Co., Ltd.)
Jinan Railway Vehicles Equipment Co., Ltd.
Nanjing Jiangbiao Group Co., Ltd.
Nantong Dontai New Energy Equipment Co., Ltd.
Nantong Hongbo Windpower Equipment Co., Ltd.
Ningxia Electric Power Group
Ningxia Yinxing Energy Co.
Ningxia Yinyi Wind Power Generation Co., Ltd.
Qingdao GeLinTe Environmental Protection Equipment Co., Ltd.
Qingdao Ocean Group
Qingdao Pingcheng Steel Structure Co., Ltd.
Qingdao Tianneng Electric Power Engineering Machinery Co., Ltd.
Qingdao Wuxiao Group Co., Ltd.
Renewable Energy Asia Group Ltd.
Shandong Endless Wind Turbine Techincal Equpiment Co., Ltd.
Shandong Zhongkai Wind Power Equipment Manufacturers, Ltd.
Shanghai Aerotech Trading International
Shanghai GE Guangdian Co., Ltd.
Shanghai Taisheng Wind Power Equipment Co., Ltd.
Shenyang Titan Metal Co., Ltd.
Sinovel Wind Group Co., Ltd.
Suihua Wuxiao Electric Power Equipment Co., Ltd.
Titan (Lianyungang) Metal Product Co., Ltd.
Titan Wind Energy Suzhou Co., Ltd.
Wuxiao Steel Tower Co., Ltd.
Xinjiang Huitong (Group) Co., Ltd.
Countervailing Duty Proceedings
Republic of Korea:
Certain Cut-to-Length Carbon-Quality Steel Plate, C-580-837 | 1/1/14-12/31/14
BDP International
Daewoo International Corp.
Dongkuk Steel Mill Co., Ltd.
GS Global Corp.
Hyundai Glovis
Hyundai Steel Co.
Iljin Steel
Samsung C&T Corporation
Samsung C&T Engineering & Construction Group
Samsung C&T Trading and Investment Group
Samsung Heavy Industries
Steel N People Ltd.
Republic of Korea:
Large Residential Washers, C-580-869 | 1/1/14-12/31/14
Daewoo Electronics Corporation
Samsung Electrics Co., Ltd.
Socialist Republic of Vietnam:
Steel Wire Garment Hangers, C-552-813 | 1/1/14-12/31/14
Acton Co, Ltd.
Angang Clothes Rack Manufacture Co.
Asmara Home Vietnam
B2B Co., Ltd.
Capco Wai Shing Viet Nam Co. Ltd.
CTN Limited Company (a/k/a C.T.N. International Ltd. and CTN Co. Ltd)
City Tnhn Mtv Xnk My Phuoc (a/k/a City Thnh San Xuat My Phuoc Long An Factory)
Dai Nam Investment JSC (part of Dai Nam Group)
Diep Son Hangers One Member Co. Ltd. (a/k/a Diep Son Hangers Co. Ltd.)
Dong Nam A Co. Ltd. (a/k/a Dong Nam A Hamico)
Dong Nam A Trading Co.
Est Glory Industrial Ltd.
Focus Shipping Corp.
Godoxa Viet Nam Ltd. (a/k/a Godoxa Vietnam Co. Ltd.)
HCMC General Import and Export Investment Joint Stock Company (Imexco)
Huqhu Co., Ltd.
Hongxiang Business and Product Co., Ltd.
Infinite Industrial Hanger Limited (a/k/a Infinite Industrial Hanger Co. Ltd.)
Ju Fu Co. Ltd. (a/k/a Jufu Company, Ltd.)
Linh Sa Hamico Company, Ltd.
Long Phung Co. Ltd.
Lucky Cloud (Vietnam) Hanger Co. Ltd.
Minh Quang Steel Joint Stock Company (a/k/a Minh Quang Hanger) (Part of the Dai Nam Group)
Moc Viet Manufacture Co., Ltd.
Nam A Hamico Export Joint Stock Co. (a/k/a Dong Nam Hamico Joint Stock Company)
N-Tech Vina Co. Ltd.
NV Hanger Co., Ltd. (a/k/a Nguyen Haong Vu Co. Ltd.)
Quoc Ha Production Trading Services Co. Ltd.
Quyky Group/Quyky Co., Ltd./Quyky-Yangle International Co., Ltd.
S.I.I.C.
South East Asia Hamico Exports JSC
T.J. Co. Ltd.
Tan Dinh Enterprise (a/k/a Tan Dihn Enterprise)
Tan Minh Textile Sewing Trading Co., Ltd.
Thanh Hieu Manufacturing Trading Co. Ltd.
The Xuong Co. Ltd.
Thien Ngon Printing Co, Ltd.
Top Sharp International Trading Limited
Triloan Hangers, Inc.
Tri-State Trading (a/k/a Nghia Phuong Nam Production Trading)
Trung Viet My Joint Stock Company
Truong Hong Lao—Viet Joint Stock
Uac Co. Ltd.
Viet Anh Imp-Exp Joint Stock Co.
Viet Hanger Investment, LLC (a/k/a Viet Hanger)
Vietnam Hangers Joint Stock Company (a/k/a Cong Ty Co Phan Moc AO)
Vietnam Sourcing (a/k/a VNS and VN Sourcing)
Winwell Industrial Ltd. (Hong Kong)
Yen Trang Co., Ltd.
Zownzi Hardware Hanger Factory Ltd.
The People's Republic of China:
Utility Scale Wind Towers, C-570-982 | 1/1/14-12/31/14
Alstom Sizhou Electric Power Equipment Co., Ltd.
AVIC International Renewable Energy Co., Ltd.
AUSKY (Shandong) Machinery Manufacturing Co., Ltd.
Baotou Titan Wind Power Equipment Co., Ltd.
CATIC International Trade & Economic Development Ltd.
Chengde Tianbao Machinery Co., Ltd.
Chengxi Shipyard Co., Ltd.
China WindPower Group
CleanTech Innovations Inc.
CNR Wind Turbine Co., Ltd.
CS Wind China Co., Ltd.
CS Wind Corporation
CS Wind Tech (Shanghai) Co., Ltd.
Dajin Heavy Industry Corporation
Greenergy Technology Co., Ltd.
Guangdong No. 2 Hydropower Engineering Co., Ltd.
Guodian United Power Technology Baoding Co., Ltd.
Harbin Hongguang Boiler Group Co., Ltd.
Hebei Ningqiang Group
Hebei Qiangsheng Wind Equipment Co., Ltd.
Jiangsu Baolong Electromechanical Mfg. Co., Ltd.
Jiangsu Baolong Tower Tube Manufacture Co., Ltd.
Jiangsu Taihu Boiler Co., Ltd.
Jilin Miracle Equipment Manufacturing Engineering Co., Ltd.
Jilin Tianhe Wind Power Equipment Co., Ltd. (f/k/a Jilin Mingmen Wind Power Equipment Co., Ltd.)
Jinan Railway Vehicles Equipment Co., Ltd.
Nanjing Jiangbiao Group Co., Ltd.
Nantong Dontai New Energy Equipment Co., Ltd.
Nantong Hongbo Windpower Equipment Co., Ltd.
Ningxia Electric Power Group
Ningxia Yinxing Energy Co.
Ningzxia Yinyi Wind Power Generation Co., Ltd.
Qingdao GeLinTe Environmental Protection Equipment Co., Ltd.
Qingdao Ocean Group
Qingdao Pingcheng Steel Structure Co., Ltd.
Qingdao Tianneng Electric Power Engineering Machinery Co., Ltd.
Qingdao Wuxiao Group Co., Ltd.
Renewable Energy Asia Group Ltd.
Shandong Endless Wind Turbine Techincal Equpiment Co., Ltd.
Shandong Zhongkai Wind Power Equipment Manufacturers, Ltd.
Shanghai Aerotech Trading International
Shanghai GE Guangdian Co., Ltd.
Shanghai Tiasheng Wind Power Equipment Co., Ltd.
Shenyang Titan Metal Co., Ltd.
Sinovel Wind Group Co., Ltd.
Suihua Wuxiao Electric Power Equipment Co., Ltd.
Titan (Lianyungang) Metal Product Co., Ltd.
Titan Wind Energy Suzhou Co., Ltd.
Wuxiao Steel Tower Co., Ltd.
Xinjiang Huitong (Group) Co., Ltd.

Suspension Agreements

None.

⁴ In the initiation notice covering cases with December anniversary dates, the Department inadvertently omitted the requested review of the antidumping duty order on Certain Cased Pencils from the PRC. Specifically, the timely review request for Orient International Holding Shanghai Foreign Trade Co., Ltd. (SFTC) was not included in the February 4, 2015, initiation notice. See Initiation of Antidumping and Countervailing Duty Administrative Reviews 80 FR 6041 (February 4, 2015). This company is included herein as a correction to the February 4, 2015, initiation notice.

Duty Absorption Reviews

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant provisional-measures “gap” period, of the order, if such a gap period is applicable to the POR.

Administrative Protective Orders and Letters of Appearance

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that they meet the requirements of these procedures (e.g., the filing of separate letters of appearance as discussed at 19 CFR 351.103(d)).

Revised Factual Information Requirements

On April 10, 2013, the Department published Definition of Factual Information and Time Limits for Submission of Factual Information: Final Rule, 78 FR 21246 (April 10, 2013), which modified two regulations related to antidumping and countervailing duty proceedings: The definition of factual information (19 CFR 351.102(b)(21)), and the time limits for the submission of factual information (19 CFR 351.301). The final rule identifies five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). The final rule requires any party, when submitting factual information, to specify under which subsection of 19 CFR 351.102(b)(21) the information is being submitted and, if the information is submitted to rebut, clarify, or correct factual information already on the record, to provide an explanation identifying the information already on the record that the factual information seeks to rebut, clarify, or correct. The final rule also modified 19 CFR 351.301 so that, rather than providing general time limits, there are specific time limits based on the type of factual information being submitted. These modifications are effective for all segments initiated on or after May 10, 2013. Please review the final rule, available at http://enforcement.trade.gov/frn/2013/1304frn/2013-08227.txt, prior to submitting factual information in this segment.

Any party submitting factual information in an antidumping duty or countervailing duty proceeding must certify to the accuracy and completeness of that information.⁵ Parties are hereby reminded that revised certification requirements are in effect for company/government officials as well as their representatives. All segments of any antidumping duty or countervailing duty proceedings initiated on or after August 16, 2013, should use the formats for the revised certifications provided at the end of the Final Rule.⁶ The Department intends to reject factual submissions in any proceeding segments if the submitting party does not comply with applicable revised certification requirements.

⁵ See section 782(b) of the Act.

⁶ See Certification of Factual Information To Import Administration During Antidumping and Countervailing Duty Proceedings, 78 FR 42678 (July 17, 2013) (“Final Rule”); see also the frequently asked questions regarding the Final Rule, available at http://enforcement.trade.gov/tlei/notices/factual_info_final_rule_FAQ_07172013.pdf.

Revised Extension of Time Limits Regulation

On September 20, 2013, the Department modified its regulation concerning the extension of time limits for submissions in antidumping and countervailing duty proceedings: Final Rule, 78 FR 57790 (September 20, 2013). The modification clarifies that parties may request an extension of time limits before a time limit established under Part 351 expires, or as otherwise specified by the Secretary. In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning U.S. Customs and Border Protection data; and (5) quantity and value questionnaires. Under certain circumstances, the Department may elect to specify a different time limit by which extension requests will be considered untimely for submissions which are due from multiple parties simultaneously. In such a case, the Department will inform parties in the letter or memorandum setting forth the deadline (including a specified time) by which extension requests must be filed to be considered timely. This modification also requires that an extension request must be made in a separate, stand-alone submission, and clarifies the circumstances under which the Department will grant untimely-filed requests for the extension of time limits. These modifications are effective for all segments initiated on or after October 21, 2013. Please review the final rule, available at http://www.gpo.gov/fdsys/pkg/FR-2013-09-20/html/2013-22853.htm, prior to submitting factual information in these segments.

These initiations and this notice are in accordance with section 751(a) of the Act (19 U.S.C. 1675(a)) and 19 CFR 351.221(c)(1)(i).

Dated: March 30, 2015.
Gary Taverman,
Associate Deputy Assistant Secretary for Antidumping and Countervailing Duty Operations.

[FR Doc. 2015-07712 Filed 4-2-15; 8:45 am]

BILLING CODE 3510-DS-P